DEPARTMENT OF ENERGY

[Docket No. EA-97-C]

Application To Export Electric Energy; Portland General Electric Company

AGENCY: Office of Fossil Energy, DOE.

ACTION: Notice of application.

SUMMARY: Portland General Electric Company (“PGE”) has applied for renewal of its authority to transmit electric energy from the United States to Canada pursuant to section 202(e) of the Federal Power Act.

DATES: Comments, protests or requests to intervene must be submitted on or before May 17, 2004.

ADDRESSES: Comments, protests or requests to intervene should be addressed as follows: Office of Coal & Power Import/Export (FE-27), Office of Fossil Energy, U.S. Department of Energy, 1000 Independence Avenue, SW., Washington, DC 20585-0350 (fax 202-287-5736).

FOR FURTHER INFORMATION CONTACT: Rosalind Carter (Program Office), 202-586-67983 or Michael Skinker (Program Attorney), 202-586-2793.

SUPPLEMENTARY INFORMATION: Exports of electricity from the United States to a foreign country are regulated and require authorization under section 202(e) of the Federal Power Act (FPA) (16 U.S.C. 824a(e)).

On April 29, 1994, the Office of Fossil Energy (FE) of the Department of Energy (DOE) authorized PGE to transmit electric energy from the United States to Canada using the international transmission facilities of the Bonneville Power Administration. Amendments to this authorization were granted on February 9, 1996 (Order EA-97-A), and again on March 5, 1998 (Order EA-97-B). Order EA-97-B expired on March 5, 2003.

On February 26, 2004, PGE filed an application with FE for renewal of its export authority and requested that the maximum rate of transmission of its exports be increased from 400 megawatts (MW) to 600 MW and that the authorization be granted for a 10-year period beginning on April 1, 2003.

PGE asserted that it was not able to apply for a renewal of its export authorization before the expiration of Order EA-97-B due to numerous factors, including disruptions to routine filing and reporting obligations resulting from the bankruptcy reorganization of PGE's parent company, Enron. PGE also indicated that it had continued to export electricity to Canada after the expiration date of Order EA-97-B.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the PGE application to export electric energy to Canada should be clearly marked with Docket EA-97-C. Additional copies are to be filed directly with Ms. Loretta Mabinton, Assistant General Counsel, Portland General Electric Company, 121 SW. Salmon Street, Portland, OR 97204.

DOE notes that the circumstances described in this application are virtually identical to those for which export authority had previously been granted in FE Orders EA-97. Consequently, DOE believes that it has adequately satisfied its responsibilities under the National Environmental Policy Act of 1969 through the documentation of a categorical exclusion in the FE Docket EA-97 proceeding.

Copies of this application will be made available, upon request, for public inspection and copying at the address provided above or by accessing the Fossil Energy home page at http://www.fe.doe.gov. Upon reaching the Fossil Energy home page, select “Electricity Regulation,” and then “Pending Proceedings” from the options menus.

Issued in Washington, DC, on April 5, 2004.
Anthony J. Como,
Deputy Director, Electric Power Regulation, Office of Coal & Power Import/Export, Office of Coal & Power Systems, Office of Fossil Energy.

[FR Doc. 04-8652 Filed 4-15-04; 8:45 am]

BILLING CODE 6450-01-P